DEPARTMENT OF JUSTICE

Notice of Lodging of Proposed Consent Decree Under the Clean Water Act

On January 3, 2013, the Department of Justice lodged a proposed Consent Decree with the United States District Court for the District of Oregon in the lawsuit entitled United States v. Granite Construction Company, No. 3:13-cv-00012-ST. The proposed Consent Decree entered into by the United States and the company resolves the United States' claims against Granite for civil penalties and injunctive relief pursuant to the Clean Water Act, 33 U.S.C. 1319. Under the terms of the Consent Decree, Granite will pay the United States a civil penalty of $735,000, for excessive discharges of stormwater pollutants into tributaries of the Yaquina River. These discharges occurred during the construction of the Highway 20 expansion project from Pioneer Mountain to Eddyville. In addition, Granite Construction has agreed to implement a new stormwater control training program for its Oregon-based supervisors to prevent future failures. The company will ensure that all of its on-site managers are trained in stormwater control and that a special stormwater pollution control manager is assigned to all of its Oregon construction sites.

The publication of this notice opens a period for public comment on the consent decree. Comments should be addressed to the Assistant Attorney General, Environment and Natural Resources Division, and should refer to United States v. Granite Construction Company, DJ Ref. No. 90-5-1-10539. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $8.50 (25 cents per page reproduction cost) payable to the United States Treasury.

Robert E. Maher, Jr.,
Acting Deputy Section Chief, Environmental Enforcement Section, Environment and Natural Resources Division.

[FR Doc. 2013-01054 Filed 1-17-13; 8:45 am]

BILLING CODE 4410-15-P